DEPARTMENT OF COMMERCE

International Trade Administration

[A-122-814]

Pure Magnesium From Canada: Final Results of 2002/2003 Antidumping Duty Administrative Review and Partial Rescission of Review

AGENCY: Import Administration, International Trade Administration, Department of Commerce.

ACTION: Notice of final results of administrative review and partial rescission of review.

SUMMARY: On April 16, 2004, the Department of Commerce published the preliminary results of the 2002/2003 administrative review of the antidumping duty order on pure magnesium from Canada with respect to Norsk Hydro Canada Inc. This review covers sales of pure magnesium from Canada to the United States during the period August 1, 2002, through July 31, 2003. We provided interested parties with an opportunity to comment on the preliminary results of this review, but received no comments. The final results do not differ from the preliminary results of this review, in which we found that the respondent made sales in the United States at prices not below normal value.

DATES: Effective Date: August 5, 2004.

FOR FURTHER INFORMATION CONTACT: Scott Holland, Import Administration, International Trade Administration, U.S. Department of Commerce, 14th Street and Constitution Avenue, NW., Washington, DC 20230; telephone: (202) 482-1279.

SUPPLEMENTARY INFORMATION:

Background

The Department of Commerce (“the Department”) published the preliminary results of this review on April 16, 2004 (see Pure Magnesium from Canada; Preliminary Results of Antidumping Duty Administrative Review and Preliminary Partial Rescission of Review, 69 FR 20597 (April 16, 2004) (“Preliminary Results”)).

We invited interested parties to comment on the preliminary results of this review. No comments were received.

Scope of the Order

The product covered by this order is pure magnesium. Pure unwrought magnesium contains at least 99.8 percent magnesium by weight and is sold in various slab and ingot forms and sizes. Granular and secondary magnesium are excluded from the scope currently classifiable under subheading 8104.11.0000 of the Harmonized Tariff Schedule (“HTS”). The HTS item number is provided for convenience and for customs purposes. The written description of the scope of the order remains dispositive.

Period of Review

The period of review (“POR”) is August 1, 2002, through July 31, 2003.

Partial Rescission

In accordance with 19 CFR 351.213(d)(3), and consistent with the Preliminary Results, we are rescinding this review with respect to Magnola Metallurgy Inc., which made no shipments of pure magnesium to the United States during this POR.

Fair Value Comparisons

To determine whether sales of pure magnesium from Canada to the United States were made at less than normal value (“NV”), we compared export price (“EP”) to NV. Our calculations followed the methodologies described in the Preliminary Results.

Currency Conversions

We made currency conversions in accordance with section 773A of the Tariff Act of 1930, as amended (“the Act”) in the same manner as in the Preliminary Results.

Final Results of the Review

We have determined that no changes to our analysis are warranted for purposes of these final results. As a result of this review, we determine that the following percentage weighted-average margin exists for the period August 1, 2002, through July 31, 2003:

Manufacturer/exporter | Margin
Norsk Hydro Canada Inc | 0.01 (de minimis)

Assessment Rates

The Department shall determine, and U.S. Customs and Border Protection (“CBP”) shall assess, antidumping duties on all appropriate entries. In accordance with 19 CFR 351.212(b)(1), we have calculated importer (or customer)-specific assessment rates for merchandise subject to this review. To determine whether the duty assessment rates were de minimis, in accordance with the requirement set forth in 19 CFR 351.106(c)(2), we calculated importer (or customer)-specific ad valorem rates by aggregating the dumping margins calculated for all U.S. sales to that importer (or customer) and dividing this amount by the total value of the sales to that importer (or customer). Where an importer (or customer)-specific ad valorem rate was greater than de minimis, we calculated a per unit assessment rate by aggregating the dumping margins calculated for all U.S. sales to that importer (or customer) and dividing this amount by the total quantity sold to that importer (or customer).

Pending the final disposition of a NAFTA panel review, the Department will not order the liquidation of entries of pure magnesium from Canada exported by NHCI on or after August 1, 2000, at this time.¹ Liquidation will occur following the final judgement in the NAFTA panel appeals process.

¹ See January 28, 2003, letter from the Department granting NHCI's October 23, 2002, request for the continuation of suspension of liquidation covering all unliquidated entries of subject merchandise exported by NHCI on or after August 1, 2000.

Cash Deposit Requirements

The following antidumping duty deposits will be required on all shipments of pure magnesium from Canada entered, or withdrawn from warehouse, for consumption, on or after the publication date of the final results of this administrative review, as provided by section 751(a)(1) of the Act: (1) No cash deposit rate will be required for NHCI because its weighted-average margin is de minimis, (i.e., less than 0.5 percent); (2) for merchandise exported by manufacturers or exporters not covered in this review but covered in the original less-than-fair-value investigation or a previous review, the cash deposit rate will continue to be the most recent rate published in the final determination or final results for which the manufacturer or exporter received an individual rate; (3) if the exporter is not a firm covered in this review, the previous review, or the original investigation, but the manufacturer is, the cash deposit rate will be the rate established for the most recent period for the manufacturer of the merchandise; and (4) if neither the exporter nor the manufacturer is a firm covered in this or any previous reviews, the cash deposit rate will be 21 percent, the “all others” rate established in the less than fair value investigation. See Pure Magnesium from Canada; Amendment of Final Determination of Sales At Less Than Fair Value and Order in Accordance With Decision on Remand, 58 FR 62643 (November 29, 1993).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing these results in accordance with sections 751(a)(1) and 777(i)(1) of the Act.

Dated: July 30, 2004.
James J. Jochum,
Assistant Secretary for Import Administration.

[FR Doc. 04-17919 Filed 8-4-04; 8:45 am]

BILLING CODE 3510-DS-P